DEPARTMENT OF ENERGY

Federal Energy Regulatory Commission

Combined Notice of Filings #1

Take notice that the Commission received the following exempt wholesale generator filings:

Docket Numbers: EG21-55-000.

Applicants: Dry Lake Solar Holdings LLC.

Description: Notice of Self-Certification of Exempt Wholesale Generator Status of Dry Lake Solar Holdings LLC.

Filed Date: 12/11/20.

Accession Number: 20201211-5214.

Comments Due: 5 p.m. ET 1/4/21.

Take notice that the Commission received the following electric rate filings:

Docket Numbers: ER20-1062-001.

Applicants: Midcontinent Independent System Operator, Inc.

Description: Midcontinent Independent System Operator, Inc. submits tariff filing per 35.19a(b): Refund Report _Garden Wind to be effective N/A under ER20-2062.

Filed Date: 12/16/20.

Accession Number: 20201216-5183.

Comments Due: 5 p.m. ET 1/6/21.

Docket Numbers: ER21-402-001.

Applicants: Midcontinent Independent System Operator, Inc.

Description: Tariff Amendment: 2020-12-16_Shared Network Upgrades Amendment Filing to be effective 2/1/2021.

Filed Date: 12/16/20.

Accession Number: 20201216-5146.

Comments Due: 5 p.m. ET 1/6/21.

Docket Numbers: ER21-653-000.

Applicants: Centerfield Cooper Solar, LLC.

Description: Baseline eTariff Filing: Centerfield Cooper Solar, LLC MBR Tariff to be effective 12/16/2020.

Filed Date: 12/15/20.

Accession Number: 20201215-5158.

Comments Due: 5 p.m. ET 1/5/21.

Docket Numbers: ER21-654-000.

Applicants: PGR Lessee O, LLC.

Description: Baseline eTariff Filing: PGR Lessee O, LLC MBR Tariff to be effective 12/16/2020.

Filed Date: 12/15/20.

Accession Number: 20201215-5161.

Comments Due: 5 p.m. ET 1/5/21.

Docket Numbers: ER21-655-000.

Applicants: Arizona Public Service Company.

Description: Notice of cancellation of Rate Schedule No. 182 of Arizona Public Service Company.

Filed Date: 12/15/20.

Accession Number: 20201215-5176.

Comments Due: 5 p.m. ET 1/5/21.

Docket Numbers: ER21-656-000.

Applicants: Florida Power & Light Company.

Description: Baseline eTariff Filing: FPL's Seventh Amendment to LCEC Rate Schedule No. 317 to be effective 12/16/2020.

Filed Date: 12/15/20.

Accession Number: 20201215-5181.

Comments Due: 5 p.m. ET 1/5/21.

Docket Numbers: ER21-657-000.

Applicants: Pacific Gas and Electric Company.

Description: § 205(d) Rate Filing: Transmission Access Charge Balancing Account Adjustment (2021 TACBAA) to be effective 3/1/2021.

Filed Date: 12/15/20.

Accession Number: 20201215-5185.

Comments Due: 5 p.m. ET 1/5/21.

Docket Numbers: ER21-658-000.

Applicants: Florida Power & Light Company.

Description: § 205(d) Rate Filing: FPL's Eighth Amendment to FKEC's Rate Schedule 322 to be effective 12/16/2020.

Filed Date: 12/15/20.

Accession Number: 20201215-5186.

Comments Due: 5 p.m. ET 1/5/21.

Docket Numbers: ER21-659-000.

Applicants: NSTAR Electric Company.

Description: Tariff Cancellation: Cancellation Transfer Agrmnt between NSTAR NEMC for transfer of CMEEC Use Rights to be effective 12/15/2020.

Filed Date: 12/15/20.

Accession Number: 20201215-5188.

Comments Due: 5 p.m. ET 1/5/21.

Docket Numbers: ER21-660-000.

Applicants: NSTAR Electric Company.

Description: Tariff Cancellation: Cancellation of NSTAR-HQUS Transfer Agreement (MMWEC Use Rights) to be effective 12/15/2020.

Filed Date: 12/15/20.

Accession Number: 20201215-5189.

Comments Due: 5 p.m. ET 1/5/21.

Docket Numbers: ER21-661-000.

Applicants: NSTAR Electric Company.

Description: Tariff Cancellation: Cancellation of NSTAR-HQUS Transfer Agreement (ENE Use Rights) to be effective 12/15/2020.

Filed Date: 12/15/20.

Accession Number: 20201215-5190.

Comments Due: 5 p.m. ET 1/5/21.

Docket Numbers: ER21-662-000.

Applicants: Mobile Energy, LLC.

Description: § 205(d) Rate Filing: Notice of Succession and Revisions to MBR Tariff, and Request for Waivers to be effective 12/17/2020.

Filed Date: 12/16/20.

Accession Number: 20201216-5038.

Comments Due: 5 p.m. ET 1/6/21.

Docket Numbers: ER21-663-000.

Applicants: Tri-State Generation and Transmission Association, Inc.

Description: Tariff Cancellation: Notice of Cancellation of Rate Schedule FERC No. 88 to be effective 12/17/2020.

Filed Date: 12/16/20.

Accession Number: 20201216-5049.

Comments Due: 5 p.m. ET 1/6/21.

Docket Numbers: ER21-664-000.

Applicants: Elmwood Park Power, LLC.

Description: Tariff Cancellation: Notice of Cancellation to be effective 3/12/2021.

Filed Date: 12/16/20.

Accession Number: 20201216-5073.

Comments Due: 5 p.m. ET 1/6/21.

Docket Numbers: ER21-665-000.

Applicants: PJM Interconnection, L.L.C.

Description: § 205(d) Rate Filing: Correction to Original ISA, SA No. 5691; Queue No. AF1-194 (amend) to be effective 6/30/2020.

Filed Date: 12/16/20.

Accession Number: 20201216-5104.

Comments Due: 5 p.m. ET 1/6/21.

Docket Numbers: ER21-666-000.

Applicants: WPPI Energy.

Description: Baseline eTariff Filing: RPS Rate Schedule baseline to be effective 3/1/2021.

Filed Date: 12/16/20.

Accession Number: 20201216-5160.

Comments Due: 5 p.m. ET 1/6/21.

Take notice that the Commission received the following electric securities filings:

Docket Numbers: ES21-17-000.

Applicants: Mid-Atlantic Interstate Transmission, LLC.

Description: Application Under Section 204 of the Federal Power Act for Authorization to Issue Securities for Mid-Atlantic Interstate Transmission, LLC.

Filed Date: 12/15/20.

Accession Number: 20201215-5178.

Comments Due: 5 p.m. ET 1/5/21.

Docket Numbers: ES21-18-000.

Applicants: Midcontinent Independent System Operator, Inc.

Description: Application Under Section 204 of the Federal Power Act for Authorization to Issue Securities for Midcontinent Independent System Operator, Inc.

Filed Date: 12/16/20.

Accession Number: 20201216-5153.

Comments Due: 5 p.m. ET 1/6/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 16, 2020.
Kimberly D. Bose,
Secretary.

[FR Doc. 2020-28238 Filed 12-21-20; 8:45 am]

BILLING CODE 6717-01-P